DEPARTMENT OF THE INTERIOR

Bureau of Land Management

[CA-310-0777-XG]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The meeting will be held Thursday and Friday, Jan. 13 and 14, 2005, in the Conference Room of the BLM Surprise Field Office, 602 Cressler St., Cedarville, California. On Jan. 13, the meeting runs from 1 to 5 p.m.; on Jan. 14, the session runs from 8 a.m. to noon. Time for public comment has been set aside for 4 p.m., Thursday, Jan. 13.

FOR FURTHER INFORMATION CONTACT: Tim Burke, BLM Alturas Field Office Manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics will include land use planning for the Alturas, Eagle Lake and Surprise Field offices, an update on the Sagebrush-Steppe ecosystem improvement project, an update on sage grouse conservation planning, Stewardship Contracting, establishment of juniper fuelwood cutting areas, a prescribed fire update, and an update from the Black Rock-High Rock subcommittee. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: November 17, 2004.
Joseph J. Fontana,
Public Affairs Officer.

[FR Doc. 04-25989 Filed 11-23-04; 8:45 am]

BILLING CODE 4310-40-P